DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2013, through September 30, 2013. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: October 29, 2013.
Mary K. Wakefield,
Administrator.

List of Petitions Filed

1. John J. Rainone; Cranston, Rhode Island; Court of Federal Claims No: 13-0632V

2. Kimberly Carter on behalf of Josselyn Kish; Henderson, Nevada; Court of Federal Claims No: 13-0633V

3. Eric Scott Boyd and Naomi Nicole Boyd on behalf of Janae Leann Boyd; Phoenix, Arizona; Court of Federal Claims No: 13-0634V

4. Pete Nathaniel Mulliken; Millwood, New York; Court of Federal Claims No: 13-0635V

5. Laura Ann Jacques; Richfield, Minnesota; Court of Federal Claims No: 13-0638V

6. Sherry and Steven Kachmarik; Wauseon, Ohio; Court of Federal Claims No: 13-0639V

7. Jeffrey A. Reid; Quincy, Illinois; Court of Federal Claims No: 13-0640V

8. Etta Newman; Whitesville, West Virginia; Court of Federal Claims No: 13-0641V

9. Barry S. Dezern, North Wilkesboro, North Carolina, Court of Federal Claims No: 13-0643V

10. Lisa Sabel, Fond duLac, Wisconsin, Court of Federal Claims No: 13-0646V

11. Bobbie A. Windhorst, Louisville, Kentucky, Court of Federal Claims No: 13-0647V

12. Lori Baca, Concord, California, Court of Federal Claims No: 13-0648V

13. Dawayne Rowell, Clackamas, Oregon, Court of Federal Claims No: 13-0649V

14. Josephine Franco, Buford, Georgia, Court of Federal Claims No: 13-0650V

15. Cortney Leibfried on behalf of Lauren Pozoic, Harrisburg, Pennsylvania, Court of Federal Claims No: 13-0652V

16. Hector Trejo, San Diego, California, Court of Federal Claims No: 13-0653V

17. Bethany Blaga, Valparaiso, Indiana, Court of Federal Claims No: 13-0654V

18. Barbara Collins, Morristown, Tennessee, Court of Federal Claims No: 13-0656V

19. Susan Moody, Port Isabel, Texas, Court of Federal Claims No: 13-0657V

20. Tammy Durre, Bloomington, Illinois, Court of Federal Claims No: 13-0659V

21. Thomas Weil, Highland Park, Illinois, Court of Federal Claims No: 13-0660V

22. Lisa Vernon, Montrose, California, Court of Federal Claims No: 13-0665V

23. April Huffman on behalf of Bradlee Cochran, Jasper, Georgia, Court of Federal Claims No: 13-0666V

24. Matthew Kaplan, Montrose, California, Court of Federal Claims No: 13-0667V

25. Gerald Leonardi, III, Philadelphia, Pennsylvania, Court of Federal Claims No: 13-0668V

26. Desiree Roberts, Marshall, North Carolina, Court of Federal Claims No: 13-0669V,

27. Wallace Arlen Crotchett, Pearl, Mississippi, Court of Federal Claims No: 13-0673V

28. Kaleigh N. Burgert, Columbus, Ohio, Court of Federal Claims No: 13-0674V

29. Bo Depena and Natalie Depena on behalf of Rhone Depena, San Antonio, Texas, Court of Federal Claims No: 13-0675V

30. Terri Ahern, West Chester, Pennsylvania, Court of Federal Claims No: 13-0676V

31. Donna Smith and Brian Smith on behalf of Matthew W. Smith, Marlton, New Jersey, Court of Federal Claims No: 13-0677V

32. John Patrick Louviere and Stacy Mayeaux-Louviere on behalf of Ava Grace Louviere, Alexandria, Louisiana, Court of Federal Claims No: 13-0678V

32. Gary S. Roth, Neenah, Wisconsin, Court of Federal Claims No: 13-0679V

34. Kathleen Rosa, Sebastopol, Texas, Court of Federal Claims No: 13-0685V

35. Lisa Gladstone, Glen Rock, New Jersey, Court of Federal Claims No: 13-0680V

36. Michele LeMaire, Bridgeport, Connecticut, Court of Federal Claims No: 13-0681V

37. Christine Pyne, Somers Point, New Jersey, Court of Federal Claims No: 13-0682V

38. Barbara Farley, Dallas, Texas, Court of Federal Claims No: 13-0683V

39. David Becker on behalf of D.B., Piermont, New York, Court of Federal Claims No: 13-0687V

40. Gregory P. Brown, Middleburgh Heights, Ohio, Court of Federal Claims No: 13-0690V

41. Americo E. Gambo on behalf of Frances Chambers Gambo, Deceased, Baltimore, Maryland, Court of Federal Claims No: 13-0691V

42. Summer Shell, Rutherford College, North Carolina, Court of Federal Claims No: 13-0692V

43. Waheed Ahmed and Nermeen Hassn on behalf of Nada Ahmed, Glen Rock, New Jersey, Court of Federal Claims No: 13-0694V

44. Zelma Taylor, Jackson, Mississippi, Court of Federal Claims No: 13-0700V

45. Matthew Forrest Kierzek, Baraboo, Wisconsin, Court of Federal Claims No: 13-0701V

46. Rodrigo Brenes, U.S. Embassy, Baghdad, Court of Federal Claims No: 13-0703V

47. David Allen, Washington, District of Columbia, Court of Federal Claims No: 13-0704V

48. Salvatore Carroccia, Buffalo, New York, Court of Federal Claims No: 13-0705V

49. Kodi Rae Stevens, Hollywood, Florida, Court of Federal Claims No: 13-0707V

50. Kristine R. Bell, Cedar Rapids, Iowa, Court of Federal Claims No: 13-0709V

51. Raymond Somosot and Wanwilai Somosot on behalf of R.D.S., Las Vegas, Nevada, Court of Federal Claims No: 13-0710V

52. Johnna Bailey, Whitehall, Ohio, Court of Federal Claims No: 13-0711V

53. Shane D. Leak, Twin Falls, Idaho, Court of Federal Claims No: 13-0712V

54. William Joseph, Levittown, New York, Court of Federal Claims No: 13-0713V

55. David Farnsworth, Washington, District of Columbia, Court of Federal Claims No: 13-0714V

56. William Searcy, DDS, Lima, Ohio, Court of Federal Claims No: 13-0715V

57. Karina Torres on behalf of Adem Bilali, Bloomfield, New Jersey, Court of Federal Claims No: 13-0716V

58. Todd Chynoweth, Almont, Michigan, Court of Federal Claims No: 13-0721V

59. LaCole Willis, Phoenix, Arizona, Court of Federal Claims No: 13-0722V

60. Jason Blumenstock, Fort Gordon, Georgia, Court of Federal Claims No: 13-0723V

61. Deepak Jesrani, Los Angeles, California, Court of Federal Claims No: 13-0724V

62. Annette Packey, Fostoria, Ohio, Court of Federal Claims No: 13-0725V

63. Eugene Spadaccini, Carneys Point, New Jersey, Court of Federal Claims No: 13-0726V

64. Janine Kadile, Boston, Massachusetts, Court of Federal Claims No: 13-0728V

65. Sylvia Heckman, Boston, Massachusetts, Court of Federal Claims No: 13-0729V

66. Cathi Holden, Boston, Massachusetts, Court of Federal Claims No: 13-0730V

67. Michael Dolloff, Boston, Massachusetts, Court of Federal Claims No: 13-0731V

68. Jodi Manis, Boston, Massachusetts, Court of Federal Claims No: 13-0732V

69. Heather Crose, Boston, Massachusetts, Court of Federal Claims No: 13-0733V

70. Jennifer Robi, Pasadena, California, Court of Federal Claims No: 13-0734V

71. Chuck and Rhonda Smithson on behalf of Savannah Smithson, Phoenix, Arizona, Court of Federal Claims No: 13-0735V

72. Bena Tomlinson, Boston, Massachusetts, Court of Federal Claims No: 13-0736V

73. Christine Shea, Boston, Massachusetts, Court of Federal Claims No: 13-0737V

74. Rhonda Nixon, Boston, Massachusetts, Court of Federal Claims No: 13-0738V

75. Shavara Perkins, Boston, Massachusetts, Court of Federal Claims No: 13-0739V

76. Ivan Sipos, Boston, Massachusetts, Court of Federal Claims No: 13-0740V

77. Tina Prater, Martinee, Georgia, Court of Federal Claims No: 13-0741V

78. John Aiani, Loganville, Georgia, Court of Federal Claims No: 13-0742V

79. Holly Grant, Glenview, Illinois, Court of Federal Claims No: 13-0743V

80. Jackie Allen Williams, Anaconda, Montana, Court of Federal Claims No: 13-0744V

81. Giovanni Seminerio on behalf of Vincenzo Seminerio, Stroudsburg, Pennsylvania, Court of Federal Claims No: 13-0745V

82. Cathreen Corwon, Strongsville, Ohio, Court of Federal Claims No: 13-0746V

83. Gregory Hood, Barre, Vermont, Court of Federal Claims No: 13-0748V

84. Lillie Dvorak, Malvern Arkansas, Court of Federal Claims No: 13-0749V

85. Riki Hurst on behalf of Kailee Mae Krause, Linwood, New Jersey, Court of Federal Claims No: 13-0750V

86. Vernon Gearhart, Tulsa, Oklahoma, Court of Federal Claims No: 13-0751V

87. Martha Munoz on behalf of Leonardo Munoz, Bowie, Maryland, Court of Federal Claims No: 13-0752V

88. Linda Vanslyke, Vienna, Virginia, Court of Federal Claims No: 13-0754V

89. Matthew LaRocco, Washington, District of Columbia, Court of Federal Claims No: 13-0755V

90. Kimberly Wides, Columbia Falls, Montana, Court of Federal Claims No: 13-0756V

91. Brenda Darlene Richardson, Richmond, Virginia, Court of Federal Claims No: 13-0757V

[FR Doc. 2013-26335 Filed 11-1-13; 8:45 am]

BILLING CODE 4165-15-P